DEPARTMENT OF TRANSPORTATION

Pipeline and Hazardous Materials Safety Administration

[Docket No. PHMSA-2014-0005]

Pipeline Safety: Information Collection Activities

ACTION: Notice and request for comments.

AGENCY: Pipeline and Hazardous Materials Safety Administration

SUMMARY: On January 29, 2014, in accordance with the Paperwork Reduction Act of 1995, the Pipeline and Hazardous Materials Safety Administration (PHMSA) published a notice in the Federal Register notifying the public of its intent to request an extension with no change for the pipeline reporting information collections identified by Office of Management and Budget (OMB) control numbers 2137-0578, 2137-0584, and 2137-0601. In addition, PHMSA also intends to revise the information collection identified under OMB control number 2137-0618 to include the information currently collected under OMB control number 2137-0601.

PHMSA received no comments in response to that notice. PHMSA is publishing this notice to provide the public with an additional 30 days to comment on both the renewal and the revision of the information collections referenced above and announce that the Information Collections will be submitted to OMB for approval.

DATES: Comments on this notice must be received by June 5, 2014 to be assured of consideration.

FOR FURTHER INFORMATION CONTACT: Angela Dow by telephone at 202-366-1246, by fax at 202-366-4566, or by mail at DOT, PHMSA, 1200 New Jersey Avenue SE., PHP-30, Washington, DC 20590-0001.

ADDRESSES: You may submit comments identified by the docket number PHMSA-2014-0005 by any of the following methods:

• Fax: 1-202-395-5806.

• Mail: Office of Information and Regulatory Affairs (OIRA), Records Management Center, Room 10102 NEOB, 725 17th Street NW., Washington, DC 20503,

ATTN: Desk Officer for the U.S. Department of Transportation\PHMSA.

• Email: Office of Information and Regulatory Affairs, OMB, at the following email address: OIRA_Submission@omb.eop.gov.

Requests for a copy of the Information Collection should be directed to Angela Dow by telephone at 202-366-1246, by fax at 202-366-4566, by email at Angela.Dow1@dot.gov, or by mail at U.S. Department of Transportation, PHMSA, 1200 New Jersey Avenue SE., PHP-30, Washington, DC 20590-0001.

SUPPLEMENTARY INFORMATION: Section 1320.8(d), Title 5, Code of Federal Regulations, requires PHMSA to provide interested members of the public and affected agencies an opportunity to comment on information collection and recordkeeping requests. This notice identifies certain information collection requests that PHMSA will submit to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Reporting Safety-Related Conditions on Gas, Hazardous Liquid, and Carbon Dioxide Pipelines and Liquefied Natural Gas Facilities.

OMB Control Number: 2137-0578.

Current Expiration Date: 5/31/2014.

Type of Request: Renewal of a currently approved information collection.

Abstract: In accordance with 49 CFR Parts 191 and 195, each pipeline facility operator (except master meter operators) must submit to DOT a written report on any safety-related condition that causes or has caused a significant change or restriction in the operation of a pipeline facility or a condition that is a hazard to life, property or the environment.

Affected Public: Operators of pipeline facilities (except master meter operators).

Annual Reporting and Recordkeeping Burden:

Estimated number of responses: 142.

Estimated annual burden hours: 852.

Frequency of collection: On occasion.

2. Title: Gas Pipeline Safety Program Certification and Hazardous Liquid Pipeline Safety Program Certification.

OMB Control Number: 2137-0584.

Current Expiration Date: 7/31/2014.

Type of Request: Renewal of a currently approved information collection.

Abstract: A state must submit an annual certification to assume responsibility for regulating intrastate pipelines, and certain records must be maintained to demonstrate that the state safety program complies with the certification. PHMSA uses the information to evaluate a state's eligibility for Federal grants.

Affected Public: State and local governments.

Annual Reporting and Recordkeeping Burden:

Estimated number of responses: 67.

Estimated annual burden hours: 3,920.

Frequency of Collection: Annually.

3. Title: Pipeline Safety: Report of Abandoned Underwater Pipelines.

OMB Control Number: 2137-0601.

Current Expiration Date: 5/31/2014.

Type of Request: Renewal of a currently approved information collection.

Abstract: In accordance with 49 CFR Parts 192 and 195, upon abandonment of a facility, pipeline operators are required to report certain information about the abandoned underwater pipelines to PHMSA (49 CFR 195.59 and 192.727) including pipe attributes and the date and method of abandonment.

Affected Public: Operators of underwater pipelines.

Annual Reporting and Recordkeeping Burden:

Estimated number of responses: 10.

Estimated annual burden hours: 60.

Frequency of collection: Upon abandonment of affected facility.

4. Title: Pipeline Safety: Periodic Underwater Inspections.

OMB Control Number: 2137-0618.

Current Expiration Date: 6/30/2014.

Type of Request: Revision of a currently approved information collection.

Abstract: In accordance with 49 CFR Parts 192 and 195, pipeline operators are required to conduct underwater inspections in the Gulf of Mexico. If an operator finds that its pipeline is exposed on the seabed floor or constitutes a hazard to navigation, the operator must contact the National Response Center by telephone within 24 hours of discovery to report the location of the exposed pipeline. This package is being revised to include the collection of information currently under 2137-0601 which requires operators to report certain information about underwater pipelines to PHMSA (49 CFR 192.612 and 195.413). This information aids Federal and state pipeline safety inspectors in conducting compliance inspections and investigating incidents. Once this revised information collection is approved, PHMSA will discontinue the collection identified under OMB control number 2137-0601.

Affected Public: Operators of underwater pipeline facilities.

Estimated number of responses: 92.

Estimated annual burden hours: 1,372.

Frequency of collection: On occasion.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on April 30, 2014.
John A. Gale,
Director, Office of Standards and Rulemaking.

[FR Doc. 2014-10249 Filed 5-5-14; 8:45 am]

BILLING CODE 4910-60-P